DEPARTMENT OF COMMERCE

National Oceanic and Atmospheric Administration

RIN 0648-XR061

Endangered and Threatened Species; Take of Anadromous Fish

AGENCY: National Marine Fisheries Service (NMFS), National Oceanic and Atmospheric Administration (NOAA), Commerce.

ACTION: Notice; availability of a fishery evaluation and management plan for public comment.

SUMMARY: Notice is hereby given that the Oregon Department of Fish and Wildlife (ODFW) has provided a Fishery Management and Evaluation Plan (FMEP) pursuant to the protective regulations promulgated for Pacific salmon and steelhead under the Endangered Species Act (ESA). The FMEP specifies the implementation of fisheries targeting Coho salmon and resident trout in Oregon waters of the Snake River Basin. This document serves to notify the public of the availability of the FMEP for comment prior to a decision by NMFS on whether to approve the proposed fisheries.

DATES: Comments must be received at the appropriate address (see ADDRESSES) no later than 5 p.m. Pacific time on November 25, 2019. Comments received after this date may not be accepted.

ADDRESSES: A website link to the FMEP is available under the Notices and Rules Section on our website: https://www.fisheries.noaa.gov/region/west-coast. Written comments on the application should be addressed to the NMFS Sustainable Fisheries Division, 1201 NE Lloyd Boulevard, Suite 1100, Portland, OR 97232. Comments may be submitted by email. The mailbox address for providing email comments is: Snake.River.Salmon.Fisheries@noaa.gov. Include in the subject line of the email comment the following identifier: Comments on Snake River Salmon Fisheries.

FOR FURTHER INFORMATION CONTACT: Charlene Hurst, at phone number: (503) 230-5409, or via email: Charlene.n.hurst@noaa.gov.

SUPPLEMENTARY INFORMATION:

ESA-Listed Species Covered in This Notice

Chinook salmon (Oncorhynchus tshawytscha): Threatened, naturally produced and artificially propagated Snake River Spring/Summer, and Snake River Fall;

Steelhead (O. mykiss): Threatened, naturally produced and artificially propagated Snake River Basin;

Sockeye salmon (O. nerka): Endangered, naturally produced and artificially propagated Snake River.

The FMEP submitted by ODFW describes fisheries targeting adult hatchery-and natural-origin coho salmon and resident trout within Snake River Basin waters in Oregon and their boundary waters with Washington and Idaho. The FMEP was submitted to NMFS under limit 4 of the ESA 4(d) Rule for salmon and steelhead. These fisheries were designed to support recreational fishing opportunities while minimizing potential risks to ESA-listed species. The FMEP describes timing, location, harvest impact limits, licensing, gear requirements, and monitoring and evaluation. Prior to approving an FMEP, NMFS must publish notification announcing the availability of the FMEP for public review and comment.

Authority

16 U.S.C. 1531 1543; subpart B, § 223.201-202 also issued under 16 U.S.C. 1361 et seq.; 16 U.S.C. 5503(d) for § 223.206(d)(9).

Dated: October 21, 2019.
Angela Somma,
Chief, Endangered Species Conservation Division, Office of Protected Resources, National Marine Fisheries Service.

[FR Doc. 2019-23246 Filed 10-24-19; 8:45 am]

BILLING CODE 3510-22-P